DEPARTMENT OF HEALTH AND HUMAN SERVICES

Centers for Disease Control and Prevention

[60Day-03-07]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Intimate Partner Violence Screening: A Randomized Trial Comparing Computerized Questionnaires and Nursing Staff Interviews—New—National Center for Injury Prevention and Control (NCIPC), Centers for Disease Control and Prevention (CDC).

The purpose of this project is to determine effective ways to screen for intimate partner violence (IPV) in clinical settings. The project will compare the sensitivity, specificity and cost of screening for intimate partner violence (IPV) through a randomized trial using two modes of administering the screening questionnaire. Modes to be compared are computer administration and face-to-face interviews by a nurse. Computerized screens will be of two different lengths. Three questions on the face-to-face interview will be identical to a short computer screen; a longer computer screen will include those three items and will also ask additional questions. Thus, the evaluation can examine both mode of screening and content of screening questions. The screening modes will be assessed in a primary care clinic in Albany, New York.

IPV is associated with a variety of physical and psychological problems but despite the high prevalence of IPV among patients seen in primary care and prenatal care, it is infrequently detected and treated in primary care settings. Only one in three abused women has discussed the abuse with her physician. Disclosure of abuse has been found to be associated with direct physician screening, and female IPV victims report that they would be willing to discuss their abuse if asked by their physician. Computer questionnaires hold promise for IPV screening of primary care patients because: (1) There are low continuing costs after initial setup and (2) computer questionnaires have been found useful for obtaining sensitive risk factor information on other topics (e.g., drug use, HIV risk factors).

The U.S. Preventive Services Task Force finds “insufficient evidence to recommend for or against the use of specific screening instruments to detect family violence” because of the absence of studies demonstrating that detection and treatment of IPV improves physical or psychological health, or decreases IPV. This study can provide needed evidence about the detection of IPV, which in turn, can be used in studies evaluating the effectiveness of screening followed by appropriate treatment. There is no cost to respondent.

Respondent | Number of respondents | Number of responses/ respondent | Avg. burden/ response (in hours) | Total burden (in hours)
Patients | 300 | 2 | 16/60 | 160
Health Care Providers and Nurses | 14 | 7 | 6.4/60 | 10
Health Care Admitting Staff | 36 | 1 | 15/60 | 9
Total | 350 |  |  | 179

Dated: October 23, 2002.
Nancy E. Cheal,
Acting Associate Director for Policy, Planning and Evaluation, Centers for Disease Control and Prevention.

[FR Doc. 02-27551 Filed 10-29-02; 8:45 am]

BILLING CODE 4163-18-P